DEPARTMENT OF TRANSPORTATION

Pipeline and Hazardous Materials Safety Administration

[Docket No. PHMSA-2011-0136]

Pipeline Safety: Information Collection Activities

AGENCY: Pipeline and Hazardous Materials Safety Administration (PHMSA), DOT.

ACTION: Notice and request for comments.

SUMMARY: In accordance with the Paperwork Reduction Act of 1995, PHMSA published a notice with request for comments in the Federal Register on June 9, 2011 (76 FR 33808) on an information collection under Office of Management and Budget (OMB) Control No. 2137-0622, titled “Pipeline Safety: Public Awareness Program” and received no comments. PHMSA is now forwarding the information collection request to the OMB and providing an additional 30 days for comments.

DATES: Interested persons are invited to submit comments to OMB on or before September 14, 2011.

ADDRESSES: Send comments regarding the burden estimate, including suggestions for reducing the burden, directly to the Office of Management and Budget, Office of Information and Regulatory Affairs, Attn: Desk Officer for the U.S. Department of Transportation, 725 17th Street, NW., Washington, DC 20503.

FOR FURTHER INFORMATION CONTACT: Angela Dow by telephone at 202-366-1246, by fax at 202-366-4566, or by mail at U.S. Department of Transportation, PHMSA, 1200 New Jersey Avenue, SE., PHP-30, Washington, DC 20590-0001.

SUPPLEMENTARY INFORMATION: Section 1320.8(d), Title 5, Code of Federal Regulations, requires PHMSA to provide interested members of the public and affected agencies an opportunity to comment on information collection and recordkeeping requests. This notice identifies an information collection request that PHMSA will be submitting to OMB for renewal and extension. The information collection expires October 31, 2011, and is identified under Control No. 2137-0622, titled: “Pipeline Safety: Public Awareness Program.” The following information is provided for this information collection: (1) Title of the information collection; (2) OMB control number; (3) Type of request; (4) Abstract of the information collection activity; (5) Description of affected public; (6) Estimate of total annual reporting and recordkeeping burden; and (7) Frequency of collection. PHMSA will request a three-year term of approval for this information collection activity. PHMSA requests comments on the following information collection:

Title: Pipeline Safety: Public Awareness Program.

OMB Control Number: 2137-0622.

Type of Request: Renewal of a currently approved information collection.

Abstract: The Federal Pipeline Safety Regulations require each operator to develop and implement a written continuing public education program that follows the guidance provided in the American Petroleum Institute's Recommended Practice RP 1162. Upon request, operators must submit their completed programs to PHMSA or, in the case of an intrastate pipeline facility operator, the appropriate state agency. The operator's program documentation and evaluation results must also be available for periodic review by appropriate regulatory agencies (49 CFR 192.616 and 195.440).

Affected Public: Operators of natural gas and hazardous liquid pipelines.

Estimated number of responses: 22,500.

Estimated annual burden hours: 517,480 hours.

Frequency of collection: Annual.

Comments are invited on:

(a) The need for the proposed collection of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Authority: The Paperwork Reduction Act of 1995; 44 U.S.C. Chapter 35, as amended.

Issued in Washington, DC, on August 9, 2011.
Linda Daugherty,
Deputy Associate Administrator for Policy and Programs, Pipeline Safety.

[FR Doc. 2011-20657 Filed 8-12-11; 8:45 am]

BILLING CODE 4910-60-P